DEPARTMENT OF THE INTERIOR

National Park Service

Native American Graves Protection and Repatriation Review Committee: Meeting

AGENCY: National Park Service, Interior.

ACTION: Notice.

SUMMARY: This is notice of a meeting of the Native American Graves Protection and Repatriation Review Committee. The next Review Committee meeting is a public teleconference on March 3, 2006, to consider the disposition of culturally unidentifiable human remains; discuss the agenda for the Review Committee meeting tentatively scheduled for May 30-31, 2006, in Juneau, AK; review the Review Committee's meeting, findings, and dispute procedures; and receive presentations and statements by Indian tribes, Native Hawaiian organizations, museums, Federal agencies, and the public.

DATES: The meeting via teleconference is on March 3, 2006, from 2 p.m. until approximately 4 p.m. e.s.t.

FOR FURTHER INFORMATION CONTACT: Designated Federal Officer, Native American Graves Protection and Repatriation Review Committee, telephone (202) 354-2206, facsimile (202) 371-5197, e-mail timmckeown@nps.gov.

SUPPLEMENTARY INFORMATION: Authority. Native American Graves Protection and Repatriation Act (NAGPRA, 25 U.S.C. 3001 et seq.), and Federal Advisory Committee Act (FACA, 5 U.S.C. Appendix).

General Information. The Review Committee was established by NAGPRA. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains and recommending actions for developing a process for disposition of such remains; consulting with Indian tribes and Native Hawaiian organizations and museums on matters within the scope of the work of the Review Committee affecting such tribes or organizations; consulting with the Secretary of the Interior in the development of regulations to carry out NAGPRA; and making recommendations regarding future care of repatriated cultural items. The Review Committee's work is completed during meetings that are open to the public.

Transcripts of Review Committee meetings are available approximately 8 weeks after each meeting at the National NAGPRA program office, 1201 Eye Street NW, Washington, DC. To request electronic copies of meeting transcripts, send an e-mail message to nagpra_info@nps.gov. Information about NAGPRA, the Review Committee, and Review Committee meetings is available at the National NAGPRA Web site, http://www.cr.nps.gov/nagpra; for the Review Committee's meeting protocol, select “Review Committee,” then select “Procedures.”

Meeting time and remote locations. The teleconference meeting will begin at 2 p.m. and end at approximately 4 p.m. e.s.t. Remote locations for public participation in the teleconference have been established at the following National Park Service offices. Participants should call ahead to ensure access, bring proper identification, and allow extra time to pass through security at each location.

Washington, DC: Headquarters Office, 1201 Eye Street NW, 7th floor, room 701. From 2 p.m. to 4 p.m. e.s.t. Contact Robin Coates, (202) 354-2201.

Boston, MA: Northeast Regional Office, 15 State Street, 4th floor conference room. Enter through the Visitors Center for Boston National Historical Park. From 2 p.m. to 4 p.m. e.s.t. Contact Chuck Smythe, (617) 223-5014.

Atlanta, GA: Southeast Regional Office, 100 Alabama Street SW, 1924 Building, 6th floor training room. From 2 p.m. to 4 p.m. e.s.t. Contact J. Anthony Paredes, (404) 562-3117, extension 638.

Omaha, NE: Midwest Regional Office, 601 Riverfront Drive, 2nd floor east conference room. From 1 p.m. to 3 p.m. c.s.t. Contact Michelle Watson, (402) 661-1952.

St. Paul, MN: Mississippi National River and Recreation Area, 111 East Kellogg Blvd, room 212. From 1 p.m. to 3 p.m. c.s.t. Contact Michael J. Evans, (651) 221-1028.

Denver, CO: Intermountain Regional Office, 12795 West Alameda Parkway. From noon to 2 p.m. m.s.t. Contact Dave Ruppert, (303) 969-2879.

Santa Fe, New Mexico: Intermountain Regional Office - Santa Fe, 1100 Old Santa Fe Trail, Herbert Maier Conference Room. From 12 noon to 2 p.m. m.s.t. Contact Ed Lee Natay, (505) 988-6896.

Tucson, AZ: Western Archeological and Conservation Center, 255 North Commerce Park Loop. From noon to 2 p.m m.s.t. Contact Barbara Herman Reese, (520) 670-6501 extension 221

Oakland, CA: Pacific West Regional Office, 111 Jackson Street, 6th floor conference room. From 11 a.m. to 1 p.m. P.s.t. Contact Mark Rudo, (510) 817-1405.

Seattle, WA: Pacific West Regional Office, 909 First Avenue, room 560. From 11 a.m. to 1 p.m. P.s.t. Contact Fred York, (206) 220-4148.

Anchorage, AK: Alaska Regional Office, 240 West 5th Avenue, room 409. From 10 a.m. to noon Ak.s.t. Contact Eileen Divinney, (907) 644-3623.

Honolulu, HI: Pacific Island Support Office, PJKK Federal Building, 300 Ala Moana Boulevard, room 3-127. From 9 a.m. to 11 a.m. Ha.s.t. Contact Melia Lane-Kamahele, (808) 541-2693, extension 729.

Agenda for the teleconference meeting. The agenda for the March 3, 2006 teleconference includes the disposition of culturally unidentifiable human remains; discussion of the agenda for the Review Committee meeting tentatively scheduled for May 30-31, 2006, in Juneau, AK; review of the Review Committee's meeting, findings, and dispute procedures; and presentations and statements by Indian tribes, Native Hawaiian organizations, museums, Federal agencies, and the public. Persons may submit written statements for the Review Committee's consideration to the Designated Federal Officer, facsimile (202) 371-5197, e-mail tim_mckeown@nps.gov.

Dated: January 20, 2006.
C. Timothy McKeown,
Designated Federal Officer, Native American Graves Protection and Repatriation Review Committee.

[FR Doc. E6-1376 Filed 2-1-06; 8:45 am]

BILLING CODE 4312-50-S